DEPARTMENT OF HEALTH AND HUMAN SERVICES

Substance Abuse and Mental Health Services Administration

Center for Substance Abuse Prevention; Notice of Meeting

Pursuant to Public Law 92-463, notice is hereby given that the Substance Abuse and Mental Health Administration (SAMHSA) Center for Substance Abuse Prevention (CSAP) National Advisory Council will meet on June 21, 2007 from 11 a.m. to 12 p.m. via teleconference.

The meeting will include the review, discussion, and evaluation of grant applications. Therefore, the meeting will be closed to the public as determined by the Administrator, SAMHSA, in accordance with Title 5 U.S.C. 552b(c)(6) and 5 U.S.C. App. 2, Section 10(d).

Substantive program information, a summary of the meeting and a roster of Council members may be obtained as soon as possible after the meeting, either by accessing the SAMHSA Committee Web site at http://www.samhsa.gov/council/csap/csapnac.aspx, or by contacting Ms. Tia Haynes, Executive Secretary, CSAP National Advisory Council (see contact information below).

Committee Name: Substance Abuse and Mental Health Services Administration, Center for Substance Abuse Prevention National Advisory Council.

DATES: Date/Time: Thursday, June 21, 2007, 11 a.m. to 12 p.m.: Closed.

Place: 1 Choke Cherry Road, Room 4-1058, Rockville, Maryland 20857.

FOR FURTHER INFORMATION CONTACT: Contact: Tia Haynes, Executive Secretary, CSAP National Advisory Council, 1 Choke Cherry Road, Room 4-1066, Rockville, Maryland 20857, Telephone: (240) 276-2436; Fax: (240) 276-2430, E-mail: tia.haynes@samhsa.hhs.gov.

Dated: May 31, 2007.
Toian Vaughn,
Committee Management Officer, Substance Abuse and Mental Health Services Administration.

[FR Doc. E7-10879 Filed 6-5-07; 8:45 am]

BILLING CODE 4162-20-P